Proclamation 7894 of May 3, 2005

Asian/Pacific American Heritage Month, 2005

By the President of the United States of America

A Proclamation

Millions of Americans proudly trace their ancestry to the many nations that make up Asia and the Pacific islands. For generations, Americans of Asian/Pacific heritage have strengthened our Nation through their achievements in all walks of life, including business, politics, education, community service, the arts, and science.

This month we honor Asian/Pacific Americans for their contributions to our Nation's growth and development and to the spread of freedom around the world. This year's theme, “Liberty and Freedom for All,” honors the sacrifices of Asian/Pacific Americans in the defense of freedom and democracy. We remember the bravery of soldiers of Asian/Pacific descent who have served in our military. These proud patriots stepped forward and fought for the security of our country and the peace of the world, and they will always hold a cherished place in our history. As we confront the challenges of the 21st century and fight the war on terror, Americans of Asian/Pacific descent continue to serve in the Armed Forces and are working to secure our homeland and promote peace and liberty around the world. Their dedication and patriotism uphold the highest ideals of our country.

To honor the achievements and contributions of Asian/Pacific Americans, the Congress by Public Law 102-450 as amended, has designated the month of May each year as “Asian/Pacific American Heritage Month.”

NOW, THEREFORE, I, GEORGE W. BUSH, President of the United States of America, do hereby proclaim May 2005 as Asian/Pacific American Heritage Month. I call upon the people of the United States to learn more about the history of Asian/Pacific Americans and their many contributions to our Nation and to observe this month with appropriate programs and activities.

IN WITNESS WHEREOF, I have hereunto set my hand this third day of May, in the year of our Lord two thousand five, and of the Independence of the United States of America the two hundred and twenty-ninth.

B

[FR Doc. 05-9160

Filed 5-4-05; 9:15 am]

Billing code 3195-01-P